DEPARTMENT OF THE TREASURY

Internal Revenue Service

Open Meeting of the Taxpayer Advocacy Panel Special Projects Committee; Correction

AGENCY: Internal Revenue Service (IRS), Treasury.

ACTION: Notice of meeting; correction.

SUMMARY: In the Federal Register notice that was originally published on December 10, 2014, (Volume 79, Number 237, Page 73404) the meeting location was inadvertently omitted. The location of the meeting is: Little Rock, Arkansas.

DATES: The meetings will be held Monday, January 12, 2015 and Tuesday, January 13, 2015.

FOR FURTHER INFORMATION CONTACT: Kim Vinci at 1-888-912-1227 or 916-974-5086.

SUPPLEMENTARY INFORMATION: Notice is hereby given pursuant to Section 10(a)(2) of the Federal Advisory Committee Act, 5 U.S.C. App. (1988) that a meeting with the Taxpayer Advocacy Panel Special Projects Committee will be held Monday, January 12, 2015, from 1:00 p.m. to 4:30 p.m., and Tuesday, January 13, 2015, from 8:00 a.m. to 4:30 p.m. Central Time in Little Rock, Arkansas. The public is invited to make oral comments or submit written statements for consideration. Notification of intent to participate must be made with Kim Vinci. For more information please contact: Kim Vinci at 1-888-912-1227 or 916-974-5086, TAP Office, 4330 Watt Ave., Sacramento, CA 95821, or contact us at the Web site: http://www.improveirs.org.

The agenda will include a discussion on various special topics with IRS processes.

Dated: December 16, 2014.
Otis Simpson,
Acting Director, Taxpayer Advocacy Panel.

[FR Doc. 2014-30094 Filed 12-22-14; 8:45 am]

BILLING CODE 4830-01-P